DEPARTMENT OF AGRICULTURE

Agricultural Marketing Service

[Docket Number FV-04-308]

United States Standards for Grades of Sweet Peppers

AGENCY: Agricultural Marketing Service, USDA.

ACTION: Notice, request for public comment.

SUMMARY: The Agricultural Marketing Service (AMS), of the Department of Agriculture (USDA) is soliciting comments on it's proposal to revise the United States Standards for Grades of Sweet Peppers. This action is being taken at the request of the Fruit and Vegetable Industry Advisory Committee, which asked AMS to review the grade standards for possible revision. AMS is proposing to revise the standards to report decay affecting the stems under the serious damage tolerance in all grades instead of the more restrictive tolerance of two percent for decay. Additionally, AMS is proposing to amend the similar varietal requirement to allow mixed colors and/or types when designated as speciality packs and remove the unclassified category. AMS is proposing to remove the requirement to re-designate lots of sweet peppers as “Mixed Color” in the grade statement when peppers fail to meet the color requirement. AMS is also proposing to include the Mixed Color designation as an option for any lot of sweet peppers intentionally packed with peppers of different color. The proposed revisions would bring the standards for sweet peppers in line with current marketing practices, thereby improving the usefulness of the standards in serving the industry.

DATES: Comments must be received by May 10, 2005.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; fax (202) 720-8871, e-mail FPB.DocketClerk@usda.gov. Comments should make reference to the dates and page number of this issue of the Federal Register and will be made available for public inspection in the above office during regular business hours. The United States Standards for Grades of Sweet Peppers are available either through the address cited above or by accessing the Fresh Products Branch Web site at: http://www.ams.usda.gov/standards/stanfrfv.htm.

FOR FURTHER INFORMATION CONTACT: David L. Priester, at the above address or call (202) 720-2185; e-mail David.Priester@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is proposing to revise the voluntary U.S. Standards for Grades of Sweet Peppers using procedures that appear in Part 36 Title 7 of the Code of Federal Regulations (7 CFR Part 36). These standards were last revised in 1989.

Background

Prior to undertaking research and other work associated with revision of the grade standards, AMS published a notice in the Federal Register (69 FR 33345) on June 15, 2004, soliciting comments on the possible revision to the United States Standards for Grades of Sweet Peppers.

In response to our request for comments, AMS received three comments from industry groups. One comment was in favor of the proposed revisions of the standard and two comments were opposed.

One comment from an industry association which represents growers, packers and shippers is in favor of the proposal to amend the United States Standards for Grades of Sweet Peppers by separating the scoring and reporting of decay affecting the walls and calyxes from decay affecting the stems only. The proposed tolerances would allow decay affecting the stems only to be scored under the serious damage tolerance in all grades, and decay affecting the walls and/or calyxes shall continue to be scored under the more restrictive tolerance of two percent for decay.

AMS also received one comment from an industry group which represents receivers. The comment did not support the proposed revision to the decay tolerance. The commenter stated that all decay has a serious negative impact on the appearance and marketability of the product and requested not to change the decay tolerances. AMS also received one comment from an industry association which represents producers. The commenter proposes that decay affecting the stems and calyxes should not be scored against any grade, and should only be noted on the inspectors's notesheet and not reported on the certificate. AMS has reviewed stem decay affecting various commodities and believes the proposed changes would bring sweet peppers in line with other grade standards with regards to stem decay. Decay affecting the stem only does not affect the edible portion of the pepper, and does not affect the marketability to the same degree as decay affecting the walls and/or calyx. AMS believes a revision to the decay tolerance is warranted to better serve the industry.

Further, AMS requested comments on the use of color terms “chocolate” and “suntan” which are trade terms used by the industry to describe the color of some peppers. AMS received one comment regarding trade terms for color. The comment does not support including the industry terms into the grade standards. The commenter believes the use of such terms will result in a dispute over nearly every shipment. In view of the above, AMS does not recommend inclusion of such trade terms into the existing grade standard.

AMS received one comment requesting the grade standards designate how hybrid varieties which turn several colors should be scored. Currently the standard allows characteristic color other than green to be specified in connection with the grade. Additionally, when peppers fail to meet the color requirements of the grade for green lots or specified color, they are designated as Mixed Color. Current marketing practices for specialty packs which include mixed colors and/or types of sweet peppers would not meet the similar varietal characteristic requirements for all grades in the standards. Accordingly, AMS is proposing to amend the similar varietal requirement to allow mixed colors and/or types of sweet peppers when designated as a mixed or speciality pack.

AMS requested comments on industry terms for size based on 1⅑ bushel containers. As a result, AMS received one comment in favor of developing size requirements. The commenter requested that a requirement for fairly uniform be added to the standard. This would require that sweet peppers could not exceed ½ inch in diameter variance within containers and the diameter of peppers should not exceed the length of the pepper, otherwise the pepper is misshapen. AMS believes these requirements would be too restricting and would cause confusion by combining fairly uniform with shape requirements. The commenter also requested size definitions (small, medium, large, extra large and jumbo) for peppers packed in 1⅑ bushel containers which are based on a count per container, as well as minimum diameters for each category. The size classifications requested did not represent all ranges between size classifications and included minimum diameters which do not meet the current minimum diameters for the U.S. Fancy and U.S. No. 1 grades. These terms would not be applicable to 11, 15 and 25 pound containers which are commonly used in today's market. Further, the commenter requested marking requirements which would require all cartons to be clearly marked by count and/or size, and establish the size of a standard box, however, the comment did not recommend a standard size box. The current standard contains three grades. The U.S. Fancy and U.S. No. 1 grades contain minimum length and diameter requirements. Additionally, inspections of sweet peppers may be based on specified size and count per container or other contract specifications upon request. AMS believes it would be impractical to apply such requirements due to the various varietal characteristics of sweet peppers regarding shape and size, and the lack of a standardized container.

AMS proposes to eliminate the unclassified category. This section is not a grade and only serves to show that no grade has been applied to the lot. Since this designation is rarely used and may create some confusion in the marketplace, it should be discontinued.

The official grade of a lot of sweet peppers covered by these standards are determined by the procedures set forth in the Regulations Governing Inspection, Certification, and Standards of Fresh Fruits, Vegetables and Other Products (Sec. 51.1 to 51.61).

This notice provides for a 60-day comment period for interested parties to comment on changes to the standards.

Authority: 7 U.S.C. 1621-1627.

Dated: March 7, 2005.
Kenneth C. Clayton,
Acting Administrator.

[FR Doc. 05-4814 Filed 3-10-05; 8:45 am]

BILLING CODE 3410-02-P